DEPARTMENT OF COMMERCE

National Oceanic and Atmospheric Administration

50 CFR Part 648

[Docket No. 190213108-9232-01]

RIN 0648-XG820-X

Fisheries of the Northeastern United States; Monkfish Fishery; 2019 Monkfish Specifications

AGENCY: National Marine Fisheries Service (NMFS), National Oceanic and Atmospheric Administration (NOAA), Commerce.

ACTION: Final rule.

SUMMARY: We are implementing specifications for the 2019 monkfish fishery. This action is necessary to ensure allowable monkfish harvest levels that will prevent overfishing and allow harvesting of optimum yield. This action is intended to establish the allowable 2019 harvest levels, consistent with the Monkfish Fishery Management Plan and previously announced multi-year specifications.

DATES: The final specifications for the 2019 monkfish fishery are effective May 1, 2019, through April 30, 2020.

FOR FURTHER INFORMATION CONTACT: Allison Murphy, Fishery Policy Analyst, (978) 281-9122.

SUPPLEMENTARY INFORMATION: The New England and Mid-Atlantic Fishery Management Councils jointly manage the monkfish fishery. The fishery is divided into Northern and Southern Fishery Management Areas and there are different management measures for each area. Primary effort controls include a yearly allocation of days-at-sea (DAS) and landing limits that are designed to enable the fishery to catch, but not exceed, its annual quotas. This action would continue the 2017-2019 specifications approved by the Councils in Framework Adjustment 10 to the Monkfish Fishery Management Plan.

On July 12, 2017, we approved measures in Framework 10 for the 2017 fishing year (82 FR 32145), based on a recent stock assessment update and consistent with the Councils' Scientific and Statistical Committee recommendations. At that time, we also approved the projected specifications for 2018 and 2019. Final 2019 total allowable landings in both the Northern and Southern Fishery Management Areas are summarized in Table 1. These 2019 measures are the same as those implemented in 2017 and 2018. All other requirements remain the same.

Table 1—Monkfish Specifications for Fishing Year 2019
Management area | Total allowable landings (mt)
Northern Fishery Management Area | 6,338
Southern Fishery Management Area | 9,011

We have reviewed available 2018 fishery information against the 2019 specifications and we do not expect that the 2018 annual catch limit will be exceeded. Further, there is no new biological information that would require altering the projected 2019 specifications. Neither Council has recommended any changes to the previous multi-year specifications. Based on this, we are implementing the 2019 specifications as outlined in the Framework 10 final rule (82 FR 32145, July 12, 2017). The 2019 specifications will be effective until April 30, 2020. This is the final year of these specifications and new specifications will be developed by the Councils for 2020 through 2022.

Classification

The NMFS Assistant Administrator has determined that this final rule is consistent with the Monkfish Fishery Management Plan, the Magnuson-Stevens Fishery Conservation and Management Act, and other applicable law.

This rule is exempt from review under Executive Order 12866.

Pursuant to 5 U.S.C. 553(b)(B), we find good cause to waive prior public notice and opportunity for public comment on the catch limit and allocation adjustments because allowing time for notice and comment is unnecessary. The Framework 10 proposed rule provided the public with the opportunity to comment on the 2017-2019 specifications (82 FR 21498, May 9, 2017). While comments in the Framework 10 final rule were mixed on whether limits should be liberalized or made more restrictive, no comments were received on the announced 2019 specifications. Thus, the proposed and final rules that contained the projected 2017-2019 specifications provided a full opportunity for the public to comment on the substance and process of this action. Furthermore, no circumstances or conditions have changed in the 2018 monkfish fishery that would cause new concern or necessitate reopening the comment period. Finally, the final 2019 specifications being implemented by this rule are unchanged from those projected in the Framework 10 final rule.

The Chief Counsel for Regulation, Department of Commerce, previously certified to the Chief Counsel for Advocacy of the Small Business Administration (SBA) that the 2017-2019 monkfish specifications would not have a significant economic impact on a substantial number of small entities. Implementing status quo specifications for 2019 will not change the conclusions drawn in that previous certification to the SBA. Because advance notice and the opportunity for public comment are not required for this action under the Administrative Procedure Act, or any other law, the analytical requirements of the Regulatory Flexibility Act, 5 U.S.C. 601, et seq., do not apply to this rule. Therefore, no new regulatory flexibility analysis is required and none has been prepared.

This action does not contain a collection of information requirement for the purposes of the Paperwork Reduction Act.

Authority: 16 U.S.C. 1801 et seq.

Dated: March 15, 2019.
Samuel D. Rauch III,
Deputy Assistant Administrator for Regulatory Programs, National Marine Fisheries Service.

[FR Doc. 2019-05283 Filed 3-19-19; 8:45 am]

BILLING CODE 3510-22-P